DEPARTMENT OF ENERGY

Federal Energy Regulatory Commission

[Docket No. CP04-31-000]

CenterPoint Energy Gas Transmission Company; Notice of Application

December 16, 2003.

Take notice that on December 9, 2003, CenterPoint Energy Gas Transmission Company (CenterPoint), 1111 Louisiana Street, Houston, Texas 77002-5231, filed in Docket No. CP04-31-000 pursuant to Section 7(b) of the Natural Gas Act, an application for permission and approval to abandon certain facilities located in Panola County, Texas. Specifically, CenterPoint proposes to abandon one rural tap and appurtenant facilities located on Line ST-1B, all as more fully described in the request which is on file with the Commission and open to public inspection. This filing may also be viewed on the web at http://www.ferc.gov using the “eLibrary” link, select “Docket #” and follow the instructions. Call (202) 208-2222 for assistance.

CenterPoint states that it provides natural gas transportation service to CenterPoint Energy-Entex (Entex), an affiliated distribution company that serves two rural domestic customers on CenterPoint's Line ST-1B. CenterPoint avows that Line ST-1B was installed in 1954 for the primary purpose of receiving gas supplies from producers and transporting those supplies to CenterPont's mainline transmission system. Although installed as a gas supply facility, CenterPoint explains that the two rural taps were installed on Line ST-1B to deliver gas to Entex and its two rural customers, Mr. Ray Schultz and Mr. Ronny White. Despite the fact that no production has flowed through the line for a number of years, CenterPoint emphasizes that it nonetheless delivers gas into the line from ST-1 to maintain pressure and continue deliveries to the two rural customers. Given that the line is no longer used for the gas supply purpose for which is was intended, CenterPoint claims that continued operation of Line ST-1B exclusively for the two rural customers is neither efficient nor economical.

CenterPoint states that it has offered Mr. Schultz and Mr. White the options of either converting to liquid propane gas fuel (LPG) at CenterPoint's expense or receiving a cash payment equal to the estimated conversion costs. CenterPoint provided Mr. Schultz's letter of consent in writing, however Mr. White rejected the offer. CenterPoint claims two other arrangements for gas service were tendered to Mr.White, one of which Mr. White rejected, and the other was deemed neither efficient nor economical by CenterPoint. CenterPoint asserts that it has notified Entex of its plan to abandon Mr. White's tap upon either written consent from Mr. White or Commission authorization to abandon its delivery tap. Accordingly, CenterPoint requests permission and approval to abandon the tap to Mr. White, and to compensate him for expenses necessary to convert the existing gas service to LPG fuel.

Any questions regarding this application should be directed to Lawrence O. Thomas, Director—Rates & Regulatory, CenterPoint Energy Gas Transmission Company, P.O. Box 21734, Shreveport, Louisiana 71151, or call (318) 429-2804.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken; but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

Comment Date: December 30, 2003.

Magalie R. Salas,
Secretary.

[FR Doc. E3-00621 Filed 12-23-03; 8:45 am]

BILLING CODE 6717-01-P